DEPARTMENT OF JUSTICE

Immigration and Naturalization Service

[INS No. 2227-02]

Immigration and Naturalization Service: Meeting of the Data Management Improvement Act of 2000 Task Force

AGENCY: Immigration and Naturalization Service, Justice.

ACTION: Notice of meeting.

Committee meeting: Immigration and Naturalization Service, (INS) Data Management Improvement Act of 2000 (DMIA) Task Force.

Date and Time: Thursday, September 19, 2002, from 9 a.m. to 5 p.m.

Place: Immigration and Naturalization Service Headquarters, 425 I Street, NW., Washington DC 20536, Shaughnessy Conference Room, Sixth Floor.

Status: Closed meeting. The Data Management Improvement Act Task Force will meet on Thursday, September 19, 2002, from 9 a.m. to 5 p.m. Since the potential release of information that will be discussed at this meeting could seriously compromise the security and integrity of existing data collection systems as well as the proposed new entry/exit system and integration, the Immigration and Naturalization Service has determined that the meeting will be closed to the public (Section 10(d) of the Federal Advisory Committee Act (FACA)). The information discussed at this meeting is protected from disclosure under the Government in the Sunshine Act, 5 U.S.C. 552b(c)(9)(B). In accordance with the provisions of the Federal Advisory Committee Act, minutes of the meeting will be kept for agency and congressional review.

Purpose: The DMIA Task Force currently is focusing on the development of recommendations directly related to design and development of an integrated, automated entry and exit system. The Task Force will be discussing in detail, issues related to United States national security, border security and existing and proposed information technology systems. The discussion will include recommendations on data collection and use and concept of operations documents on entry/exit system development.

Public comment: The meeting is closed to the public, however the Task Force will accept written comments from the public for discussion. Only written comments received on or before September 13, 2002, will be considered for discussion at the meeting. Written comments may be faxed or e-mailed to the contact person listed below.

Contact person: Michael Defensor or Deborah Hemmes, Immigration and Naturalization Service, 425 I Street, NW., Room 7257, Washington, DC 20536; telephone (202) 305-9863; fax: (202) 305-9871; e-mail: michael.defensor@usdoj.gov or deborah.hemmes@usdoj.gov.

Dated: August 2, 2002.
James W. Ziglar,
Commissioner, Immigration and Naturalization Service.

[FR Doc. 02-21484 Filed 8-22-02; 8:45 am]

BILLING CODE 4410-10-M